DEPARTMENT OF HEALTH AND HUMAN SERVICES

Centers for Disease Control and Prevention

[30Day-12-11JD]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Evaluation of Dating Matters: Strategies to Promote Healthy Teen Relationships™—New—National Center for Injury Prevention and Control—Centers for Disease Control and Prevention.

Background and Brief Description

Evaluation of Dating Matters: Strategies to Promote Healthy Teen Relationships™ is the Centers for Disease Control and Prevention's new teen dating violence prevention initiative.

Recently, efforts to prevent teen dating violence (TDV) have grown, particularly in schools, among policymakers, and among sexual violence and domestic violence coalitions. Now many states and communities also are working to stop teen dating violence. However, these activities vary greatly in quality and effectiveness. To address the gaps, CDC has developed Dating Matters, a teen dating violence prevention program that includes programming for students, parents, educators, as well as policy development. Dating Matters is based on the current evidence about what works in prevention and focuses on high-risk, urban communities where participants include: Middle school students age 11 to 14 years; middle school parents; brand ambassadors; educators; school leadership; program implementers; community representatives; and local health department representatives in the following four communities: Alameda County, California; Baltimore, Maryland; Broward County, Florida; and Chicago, Illinois.

The primary goal of the current proposal is to conduct an outcome and implementation evaluation of Dating Matters in the four metropolitan cities to determine its feasibility, cost, and effectiveness. In the evaluation a standard model of TDV prevention (Safe Dates which is administered in the 8th grade) will be compared to a comprehensive model (this model will be administered to students in the 6th, 7th, and 8th grades). The comprehensive model also includes communications strategies, policy development, and programs involving parents of 6th, 7th, and 8th graders and their educators.

Burden estimates are based on the following information:

• Number of communities/sites: 4.

• Number of schools across 4 communities/sites: 48 (12 schools per community).

• Number of students in each middle school: 600 students—6th, 7th, 8th grade (200 students per grade).

• Number of educators/school staff (e.g., teachers, principals, support staff) in each school: 40.

• Number of schools implementing the standard model of TDV prevention: 24 (6 schools per community).

• Number of schools implementing the comprehensive model of TDV prevention: 24 (6 schools per community).

Across 4 communities/sites, 48 schools will implement the two models of teen dating violence prevention. Based on an anticipated school size of 600 the sampling frame for this data collection is 28,800 each year. The sampling frame for parents, given that we would only include one parent per student, is also 28,800. Based on our research and consultation with middle schools, most schools with approximately 600 students have approximately 40 staff. If we assume 40 educators per school, the sampling frame for the educator sample is 1,920.

The following are explanations of estimated burden by respondent:

Students: We will use random selection to identify one-third of the total participants, which is 9,600 student participants per year.

Parents: We will attempt to recruit all parents participating in the parent curricula and select an equal number of parents from the standard of care schools to serve as a matched comparison group. We anticipate our final sample will include 40 parents per grade per school, with a total of (40 parents × 48 schools × 3 grades) 5,760 parents per year. This sample of parents will respond to surveys twice per year.

Educators: Although we will attempt to recruit all educators in each school (1,920) each year, we expect that 85 percent will participate, with the total number of 1,632 educator respondents per year.

School data extractors: We will attempt to recruit one data extractor per 48 schools to extract school data to be used in conjunction with the outcome data for the students. Individual level school data will only be collected for students participating in the evaluation (one-third of all students in each school or 200 students), so the number of respondents/extractors will be 48 and the number of responses per data extractor is 200.

School leadership: Based on the predicted number of one school leadership (e.g., principal, vice principal) per 48 schools, the number of respondents will be 48.

Local Health Department representative: Based on the predicted number of four communities/sites and four local health department representatives working on Dating Matters per community, the number of respondents will be 16.

Parent Program Manager: With a maximum of one parent program manager per community/site, the number of program manager respondents will be 4.

Community Representative: Based on the predicted number of 10 community representatives per 4 communities/sites, the number of respondents will be 40.

Parent Curricula Implementers: 6 schools from each community will implement the comprehensive approach. Parent groups in the comprehensive approach are led by one male and one female parent. We have estimated 7 parent pairs per community with 56 total parent implementers (2 parents × 7 parent pairs × 4 communities = 56 implementers). These 56 implementers will host 5 sessions to 6th graders (280 respondents) and 3 sessions to 7th graders (168 respondents). It is anticipated that the parent curricula implementers will conduct three rounds of each curricula per year, with three responses per session log per year.

Student Curricula Implementers: There are six student curricula implementers per school that will be completing fidelity instruments (48 schools × 6 implementers = 288 respondents). The 6th and 7th grade implementers will complete 6 program sessions each (288 × 6 = 1,728 respondents) and the 8th grade implementers will complete 10 program sessions (288 × 10 = 2,880 respondents). It is anticipated that the student curricula implementers will conduct one round of each curricula per year, with one response per session log per year.

Safe Dates Implementers: Based on the predicted number of 3 implementers in each of 48 schools, who will implement the 8th grade SafeDates program, the number of respondents for the Safe Dates implementer survey will be 144.

Brand Ambassadors: The Brand Ambassador Implementation Survey will be provided to each brand ambassador in each community. With a maximum of 20 brand ambassadors per community, the feedback form will be collected from a total of 80 brand ambassadors. Brand Ambassadors will respond to the survey twice per year.

Communications Implementers (“Brand Ambassador Coordinators”): The Communications Campaign Tracking form will be provided to each brand ambassador coordinator in each community. With a maximum of one brand ambassador coordinator per community (n = 4), the feedback form will be collected from a total of 4 brand ambassador coordinators.

There are no costs to the respondents other than their time. The total estimated annual burden hours are 60,182.

Estimated Annualized Burden Hours
Type of respondent | Form name | Number of respondents | Number of responses per respondent | Average burden per response (hours)
Student Program Participant | Student Outcome Survey Baseline—Appendix D | 9600 | 1 | 1.5
Student Program Participant | Student Outcome Survey Follow-up—Appendix E | 9600 | 2 | 1.5
School data extractor | School Indicators—Appendix F | 48 | 200 | 15/60
Parent Program Participant | Parent Outcome Survey—Appendix G | 5760 | 2 | 1
Educator | Educator Outcome Survey—Appendix H | 1632 | 1 | 30/60
Student Brand ambassador | Brand Ambassador Implementation Survey—Appendix I | 80 | 2 | 20/60
School leadership | School Leadership Capacity and Readiness Survey—Appendix J | 48 | 1 | 1
Parent Curricula Implementer (6th grade) | Parent Program Fidelity 6th Grade Sessions 1-5—Appendices K, L, M, N, O | 280 | 3 | 15/60
Parent Curricula Implementer (7th grade) | Parent Program Fidelity 7th Grade Sessions 1, 3-5—Appendices P, Q, R | 168 | 3 | 15/60
Safe Dates Implementer (implementation) | Safe Dates Implementation Survey—Appendix S | 144 | 1 | 1
Student Curricula Implementer (6th grade) | Student Program Fidelity 6th Grade Session 1-6—Appendices T, U, V, W, X, Y | 1728 | 1 | 15/60
Student Curricula Implementer (7th grade) | Student Program Fidelity 7th Grade Sessions 1-6—Appendices Z-EE | 1728 | 1 | 15/60
Student Curricula Implementer (8th grade) | Student Program Fidelity 8th Grade Sessions 1-10—Appendices FF-OO | 2880 | 1 | 15/60
Communications Implementer | Communications Campaign Tracking—Appendix PP | 4 | 4 | 20/60
Local health department representative | Local Health Department Capacity and Readiness—Appendix QQ | 16 | 1 | 2
Parent Program Manager | Parent Program Capacity and Readiness—Appendix RR | 4 | 1 | 1
Community Representative | Community Capacity and Readiness—Appendix SS | 40 | 1 | 1

Catina Conner,
Acting Reports Clearance Officer, Centers for Disease Control and Prevention.

[FR Doc. 2011-27245 Filed 10-20-11; 8:45 am]

BILLING CODE 4163-18-P